DEPARTMENT OF ENERGY

Federal Energy Regulatory Commission

[Project No. P-2726-012]

Malad Hydroelectric Project; Notice of Meetings

November 23, 2004.

The Commission is scheduled to meet with representatives of the Shoshone-Paiute Tribes of the Duck Valley Indian Reservation and Shoshone-Bannock Tribes of the Fort Hall Indian Reservation involving the Malad Hydroelectric Project (Project No. 2726-012). Meetings will be held with the following tribes at the locations and times listed below:

Shoshone-Paiute Tribes, December 16, 2004, 9 a.m. (m.s.t.); Red Lion Canyon Springs Hotel, Cedar Room, 1357 Blue Lakes Blvd. N., Twin Falls, ID 83301.

Shoshone-Bannock Tribes, December 16, 2004, 3 p.m. (m.s.t.); Fort Hall Indian Reservation, Tribal Conference Room at the Tribal Business Center.

Members of the public and intervenors in the referenced proceedings may attend these meetings; however, participation will be limited to tribal representatives and the Commission representatives. If the Tribes decide to disclose information about a specific location which could create a risk or harm to an archeological site or Native American cultural resource, the public will be excused for that portion of the meeting when such information is disclosed.¹ If you plan to attend any of these meetings, please contact Dr. Frank Winchell at the Federal Energy Regulatory Commission. He can be reached at 202-502-6104. The meetings will be transcribed by a court reporter, and transcripts will be made available by the Commission after the meetings.

¹ Protection from public disclosure involving this kind of specific information is based upon 18 CFR 4.32(b)(3)(ii) of the Commission's regulations implementing the Federal Power Act.

Magalie R. Salas,
Secretary.

[FR Doc. E4-3395 Filed 11-30-04; 8:45 am]

BILLING CODE 6717-01-P